DEPARTMENT OF JUSTICE

Notice of Lodging of Proposed Consent Decree Amendment Under The Clean Air Act

On April 13, 2021, the Department of Justice lodged a proposed Fourth Consent Decree Amendment Concerning ExxonMobil's Joliet Refinery (the “Fourth Decree Amendment”) with the United States District Court for the Northern District of Illinois in the lawsuit entitled United States v. Exxon Mobil Corp., Case No. 05 C 5809.

In 2005, the United States and the states of Illinois, Louisiana, and Montana filed a Complaint in this lawsuit seeking civil penalties and injunctive relief from Defendants Exxon Mobil Corporation and ExxonMobil Oil Corporation (“ExxonMobil”). The Complaint alleged violations of the Clean Air Act, 42 U.S.C. 7401-7671q, and several other environmental statutes at ExxonMobil's six domestic petroleum refineries, including ExxonMobil's refinery in Joliet, Illinois (the “Joliet Refinery”). When the Complaint was filed, the United States also lodged a proposed Consent Decree containing the terms of a proposed settlement, which included requirements that ExxonMobil pay $7.7 million in civil penalties and make an array of improvements to its refineries' pollution control equipment and environmental compliance programs. The Court approved and entered that proposed Consent Decree after a public comment period. The 2005 Consent Decree and three subsequent amendments (collectively referred to here as the “Original Consent Decree”) are posted on this EPA website: https://www.epa.gov/enforcement/exxonmobil-refinery-settlement.

ExxonMobil paid the civil penalties required by the Original Consent Decree and has satisfied most requirements of the Original Consent Decree for the Joliet Refinery. However, the United States contends that ExxonMobil has violated some requirements of the Original Consent Decree that apply to the Joliet Refinery. The United States also contends that ExxonMobil has violated some other Clean Air Act requirements applicable to the Joliet Refinery. Furthermore, the United States contends that those violations of the Original Consent Decree and the Clean Air Act support claims for stipulated penalties, statutory civil penalties, and additional injunctive relief.

The proposed Fourth Decree Amendment would make material changes to the Original Consent Decree, but only as it applies to ExxonMobil's Joliet Refinery. The Fourth Decree Amendment would replace the Original Consent Decree's requirement for the Joliet Refinery with more targeted requirements addressing ExxonMobil's recent alleged failings. Among other things, the proposed Fourth Decree Amendment would require that ExxonMobil: (i) Accept and comply with more stringent air pollutant emission limits for one major process unit at the Joliet Refinery, called the fluid catalytic cracking unit; (ii) improve the capture and control of emissions from sulfur accumulation pits that are part of another major process unit at the Refinery, called the sulfur recovery plant; (iii) implement an enhanced compliance program to identify and reduce outages and downtime in continuous emissions monitoring systems that measure air pollutant emissions from various sources at the Refinery; (iv) complete a customized leak detection and repair enhanced compliance program using a high technology optical gas imaging camera, to help identify and address hydrocarbon leaks from particular types of equipment at the Refinery; and (v) pay the United States and Illinois a total of $1,515,463 in settlement of claims for alleged stipulated penalties under the Original Consent Decree and civil penalties under the Clean Air Act and corresponding Illinois law. The Fourth Decree Amendment would not alter the requirements applicable to the other five refineries covered by the Original Consent Decree with ExxonMobil.

The publication of this notice opens a period for public comment on the proposed Fourth Decree Amendment. Comments should be addressed to the Acting Assistant Attorney General, Environment and Natural Resources Division, and should refer to United States v. Exxon Mobil Corp., D.J. Ref. No. 90-5-2-1-07030/6. All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the proposed Fourth Decree Amendment may be examined and downloaded at this Justice Department website: https://www.justice.gov/enrd/consent-decrees.

We will provide a paper copy of the proposed Fourth Decree Amendment upon written request and payment of reproduction costs. Please mail your request and payment to: Consent Decree Library, U.S. DOJ—ENRD, P.O. Box 7611, Washington, DC 20044-7611.

Please enclose a check or money order for $21.00 (25 cents per page reproduction cost) payable to the United States Treasury.

Susan M. Akers,
Assistant Section Chief, Environmental Enforcement Section, Environment and Natural Resources Division.

[FR Doc. 2021-08361 Filed 4-21-21; 8:45 am]

BILLING CODE 4410-15-P